DEPARTMENT OF THE TREASURY

Office of Foreign Assets Control

Notice of OFAC Sanctions Action

SUB-AGENCY: Office of Foreign Assets Control, Treasury.

ACTION: Notice.

SUMMARY: The Department of the Treasury's Office of Foreign Assets Control (OFAC) is publishing the names of five entities and four persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On November 18, 2019, OFAC determined that the property and interests in property subject to U.S. jurisdiction of the following five entities and four persons are blocked under the relevant sanctions authority listed below.

Individuals

1. KHAN, Sayed Habib Ahmad (a.k.a. KHAN, Syed Habib Ahmad; a.k.a. “HABIB, Sayed”), Kuwait; Arzan Qemat Area, PD 12, Kabul City, Afghanistan; DOB 1970; POB Kunar Province, Afghanistan; nationality Afghanistan; Gender Male; Residency Permit Number 270010174266 (Kuwait) issued 25 Apr 2016 expires 24 Jun 2018 (individual) [SDGT] (Linked To: NEJAAT SOCIAL WELFARE ORGANIZATION).

Designated pursuant to section 1(a)(iii)(E) of Executive Order 13224 of September 23, 2001, “Blocking the Property and Prohibiting Transactions with Persons who Commit, Threaten to Commit, or Support Terrorism,” as amended by the Executive Order of September 9, 2019, “Modernizing Sanctions to Combat Terrorism” (E.O. 13224, as amended), for being a leader or official of, NEJAAT SOCIAL WELFARE ORGANIZATION, an entity whose property and interests in property are blocked pursuant to E.O. 13224, as amended.

2. WAKIL, Rohullah (a.k.a. WAKIL, Haji Sahib Rohullah; a.k.a. “Haji Rohullah”), Afghanistan; DOB 1962; alt. DOB 1963; POB Nangalam, Afghanistan; Gender Male (individual) [SDGT] (Linked To: ISIL KHORASAN).

Designated pursuant to section 1(a)(iii)(C) of E.O. 13224, as amended, for having materially assisted, sponsored, or provided financial, material, or technological support for, goods or services to or in support of ISIL KHORASAN, an entity whose property and interests in property are blocked pursuant to E.O. 13224, as amended.

3. BAYALTUN, Ismail (a.k.a. BAYALTUN, Ismail Halil), Dunya Is Mer, Gaziantep, Turkey; No:/A Atlikonak, Sanliurfa 63000, Turkey; DOB 01 Oct 1989; alt. DOB 21 Nov 1980; citizen Turkey; Gender Male; National ID No. C13638980 (Turkey); Identification Number 4386794904 (Turkey) (individual) [SDGT] (Linked To: ISLAMIC STATE OF IRAQ AND THE LEVANT).

Designated pursuant to section 1(a)(iii)(C) of E.O. 13224, as amended, for having materially assisted, sponsored, or provided financial, material, or technological support for, goods or services to or in support of ISLAMIC STATE OF IRAQ AND THE LEVANT, an entity whose property and interests in property are blocked pursuant to E.O. 13224, as amended.

4. BAYALTUN, Ahmet, Turkey; DOB 1971; citizen Turkey; Gender Male (individual) [SDGT] (Linked To: ISLAMIC STATE OF IRAQ AND THE LEVANT).

Designated pursuant to section 1(a)(iii)(C) of E.O. 13224, as amended, for having materially assisted, sponsored, or provided financial, material, or technological support for, goods or services to or in support of ISLAMIC STATE OF IRAQ AND THE LEVANT, an entity whose property and interests in property are blocked pursuant to E.O. 13224, as amended.

Entities

1. SAHLOUL MONEY EXCHANGE COMPANY (a.k.a. AL-SAHLOUL MONEY EXCHANGE COMPANY; a.k.a. SAHLUL HAWALA OFFICE), Axray, Masseeh Basha, Lallei Street, Kalvan Centre Building #22, Office #203, Istanbul, Turkey; Mersin, Turkey [SDGT] (Linked To: ISLAMIC STATE OF IRAQ AND THE LEVANT).

Designated pursuant to section 1(a)(iii)(C) of E.O. 13224, as amended, for having materially assisted, sponsored, or provided financial, material, or technological support for, goods or services to or in support of the ISLAMIC STATE OF IRAQ AND THE LEVANT, an entity whose property and interests in property are blocked pursuant to E.O. 13224, as amended.

2. AL SULTAN MONEY TRANSFER COMPANY (a.k.a. AL SULTAN GOLD & JEWELRY; a.k.a. AL SULTAN GOLD AND JEWELRY; a.k.a. AL SULTAN JEWELRY; a.k.a. AL-SULTAN JEWELRY & GENERAL TRADING CO; a.k.a. AL-SULTAN JEWELRY AND GENERAL TRADING CO; a.k.a. ALSULTAN KUYUMCULK ELEKTRONIK GIDA ITHALAT IHRACAT LIMITED SIRKETI; a.k.a. ALSULTAN KUYUMCULUK; a.k.a. SULTAN GOLD), Ataturk Mah. Sehit Nusret Cad., No: 17 A/1 Haliliye-Haliliye, Sanliurfa, Turkey [SDGT] (Linked To: ISLAMIC STATE OF IRAQ AND THE LEVANT).

Designated pursuant to section 1(a)(iii)(C) of E.O. 13224, as amended, for having materially assisted, sponsored, or provided financial, material, or technological support for, goods or services to or in support of the ISLAMIC STATE OF IRAQ AND THE LEVANT, an entity whose property and interests in property are blocked pursuant to E.O. 13224, as amended.

3. NEJAAT SOCIAL WELFARE ORGANIZATION (a.k.a. NEJAT-E EJTIMAYEE), House Number 1297, Lot Number 2, Sub-District number 2, Narang Bagh Area, Jalalabad, Nangarhar, Afghanistan; Police District 12, Kabul City, Kabul Province, Afghanistan; Jalalabad City, Nangarhar Province, Afghanistan [SDGT] (Linked To: ISIL KHORASAN).

Designated pursuant to section 1(a)(iii)(C) of E.O. 13224, as amended, for having materially assisted, sponsored, or provided financial, material, or technological support for, goods or services to or in support of ISIL KHORASAN, an entity whose property and interests in property are blocked pursuant to section 1(a)(iv) of E.O. 13224, as amended.

4. TAWASUL COMPANY (a.k.a. AL-TAWASUL COMPANY; a.k.a. TAWASUL FINANCIAL EXCHANGE; a.k.a. TAWASUL HAWALA COMPANY), Harim, Syria [SDGT] (Linked To: ISLAMIC STATE OF IRAQ AND THE LEVANT).

Designated pursuant to section 1(a)(iii)(C) of E.O. 13224, as amended, for having materially assisted, sponsored, or provided financial, material, or technological support for, goods or services to or in support of the ISLAMIC STATE OF IRAQ AND THE LEVANT, an entity whose property and interests in property are blocked pursuant to E.O. 13224, as amended.

5. ACL ITHALAT IHRACAT (a.k.a. ACL GSM IMPORT EXPORT; a.k.a. ACL ITHALAT IHRACAT ISMAIL BAYALT; a.k.a. ACL ITHALAT IHRACAT ISMAIL BAYALTUN), No: 96 Dunya Is Merkezi 2 Kat, Sanliurfa, Turkey; Cengiz Topel Mah 2 Dunya is Merk, Sanliurfa, Turkey; Yusufpasa Mah Dunya Is Merkeri Ctr, Sanliurfa 63000, Turkey; 96 Earth Business Center, 2nd Floor, Sanliurfa, Turkey [SDGT] (Linked To: BAYALTUN, Ismail).

Designated pursuant to section 1(a)(iii)(A) of E.O. 13224, as amended, for being owned, controlled, or directed by, or to have acted or purported to act for or on behalf of, directly or indirectly BAYALTUN, Ismail, an individual whose property and interests in property are blocked pursuant to E.O. 13224, as amended.

Dated: November 18, 2019.
Andrea Gacki,
Director, Office of Foreign Assets Control.

[FR Doc. 2019-25632 Filed 11-25-19; 8:45 am]

BILLING CODE 4810-AL-P